DEPARTMENT OF TRANSPORTATION

Federal Aviation Administration

14 CFR Part 39

[Docket No. FAA-2015-2994; Directorate Identifier 2014-SW-057-AD]

RIN 2120-AA64

Airworthiness Directives; Airbus Helicopters Deutschland GmbH (Formerly Eurocopter Deutschland GmbH) Helicopters

AGENCY: Federal Aviation Administration (FAA), DOT.

ACTION: Notice of proposed rulemaking (NPRM).

SUMMARY: We propose to adopt a new airworthiness directive (AD) for Airbus Helicopters Deutschland GmbH (Airbus) (formerly Eurocopter Deutschland GmbH) Model MBB-BK 117C-2 helicopters with an external mounted hoist system wiring harness installed. This proposed AD would require inspecting the hoist control pendant wiring harness for chafing, and if there is chafing, before the next hoist operation, replacing the wiring harness. This proposed AD would also require a installing a protection sleeve on the hoist control pendant wiring harness. This proposed AD is prompted by an uncommanded hoist release involving chafing on the wiring harness of the hoist control pendant and on the wiring. The proposed actions are intended to prevent loss of an external load or person from the hoist resulting in injury to persons being lifted and loss of control of the helicopter.

DATES: We must receive comments on this proposed AD by September 22, 2015.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the European Aviation Safety Agency (EASA) AD, the economic evaluation, any comments received, and other information. The street address for the Docket Operations Office (telephone 800-647-5527) is in the ADDRESSES section. Comments will be available in the AD docket shortly after receipt.

For service information identified in this proposed AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy., Room 6N-321, Fort Worth, TX 76177.

FOR FURTHER INFORMATION CONTACT: George Schwab, Aviation Safety Engineer, Safety Management Group, Rotorcraft Directorate, FAA, 10101 Hillwood Pkwy., Fort Worth, TX 76177; telephone (817) 222-5110; email george.schwab@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, issued EASA AD No. 2014-0211, dated September 19, 2014, to correct an unsafe condition for the Airbus Model MBB-BK117 C-2 helicopters “equipped with optional equipment external mounted hoist system.” EASA advises that an uncommanded hoist cable cut occurred and that an investigation revealed chafing on the wiring harness of the hoist control pendant and on the wiring of the +28V wire of the stand-by horizon inside the middle ceiling panel. The wire of the stand-by horizon contacted the hoist control pendant wiring harness and caused the uncommanded cable cut. EASA also states that this condition, if not detected and corrected, could lead to load release, possibly resulting in injury to a human load or to the persons on the ground. EASA issued AD No. 2014-0211 requiring an inspection and modification of the wiring harness to correct this unsafe condition.

FAA's Determination

These helicopters have been approved by the aviation authority of Germany and are approved for operation in the United States. Pursuant to our bilateral agreement with Germany, EASA, its technical representative, has notified us of the unsafe condition described in its AD. We are proposing this AD because we evaluated all known relevant information and determined that an unsafe condition is likely to exist or develop on other products of the same type design.

Related Service Information Under 1 CFR Part 51

Airbus Helicopters issued Alert Service Bulletin (ASB) MBB-BK117 C-2-88A-009, Revision 0, on June 18, 2014, specifying a visual inspection of the hoist control pendant wiring harness for chafing. If there is heavy chafing, before the next hoist operation, the ASB specifies replacing the wiring harness. The ASB also specifies a “retrofit” of an additional protective sleeve for the hoist control pendant wiring harness. This service information is reasonably available because the interested parties have access to it through their normal course of business or by the means identified in the ADDRESSES section of this NPRM.

Proposed AD Requirements

This proposed AD would require:

• Before the next hoist operation:

○ Visually inspecting the hoist control pendant wiring harness for chafing, and replacing the wiring harness if there is chafing on the wiring harness protection sleeve and any internal wiring is visible, or if there is chafing on any internal wire.

○ Installing each wiring harness cable tie so that the cable tie heads do not contact any adjacent parts or wiring harnesses.

• Within the next 100 hours time-in-service, installing a protection sleeve on the wiring harness and inspecting each cable tie for correct installation.

Costs of Compliance

We estimate that this proposed AD would affect 109 helicopters of U.S. Registry.

We estimate that operators may incur the following costs in order to comply with this AD. Labor costs are estimated at $85 per work hour. We estimate 1.5 work hours to inspect the hoist control pendant wiring harness at a cost of about $128 per helicopter and $13,952 for the fleet. We estimate 2 work hours to install a protection sleeve and inspect the cable ties and $125 for required parts at a cost of $295 per helicopter and $32,155 for the fleet. If required, we estimate a minimal amount of time for labor and $224 for required parts to replace a wiring harness.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters Deutschland GmbH (formerly Eurocopter Deutschland GmbH): Docket No. FAA-2015-2994; Directorate Identifier 2014-SW-057-AD.

(a) Applicability

This AD applies to Model MBB-BK 117 C-2 helicopters with an external mounted hoist system wiring harness part number (P/N) B851M2063101 installed, certificated in any category.

(b) Unsafe Condition

This AD defines the unsafe condition as chafing on the wiring harness or wiring of a hoist control pendant. This condition could result in loss of an external load or person from the hoist resulting in injury to persons being lifted and loss of control of the helicopter.

(c) Comments Due Date

We must receive comments by September 22, 2015.

(d) Compliance

You are responsible for performing each action required by this AD within the specified compliance time unless it has already been accomplished prior to that time.

(e) Required Actions

(1) Before the next hoist operation:

(i) Visually inspect the hoist control pendant wiring harness (wiring harness) for chafing. The wiring harness is shown in Figure 1 of Airbus Helicopters Alert Service Bulletin (ASB) MBB-BK117 C-2-88A-009, Revision 0, dated June 18, 2014 (MBB-BK117 C-2-88A-009). If there is chafing on the wiring harness protection sleeve such that any internal wiring is visible, or if there is chafing on any internal wire, replace the wiring harness.

(ii) Install each wiring harness cable tie so that the cable tie heads do not contact any adjacent parts or wiring harnesses, as shown in Figure 3 of ASB MBB-BK117 C-2-88A-009.

(2) Within the next 100 hours time-in-service, install a protection sleeve on the wiring harness and inspect each cable tie by following the Accomplishment Instructions, paragraph 3.B.3, of ASB MBB-BK117 C-2-88A-009.

(f) Alternative Methods of Compliance (AMOCs)

(1) The Manager, Regulations Group, FAA, may approve AMOCs for this AD. Send your proposal to: George Schwab, Aviation Safety Engineer, Safety Management Group, Rotorcraft Directorate, FAA, 10101 Hillwood Pkwy., Fort Worth, TX 76177; telephone (817) 222-5110; email george.schwab@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) For service information identified in this AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy., Room 6N-321, Fort Worth, TX 76177.

(2) The subject of this AD is addressed in European Aviation Safety Agency (EASA) AD No. 2014-0211, dated September 19, 2014. You may view the EASA AD on the Internet at http://www.regulations.gov in Docket No. FAA-2015-2994.

(h) Subject

Joint Aircraft System Component (JASC) Code: 5397 Fuselage Wiring.

Issued in Fort Worth, Texas, on July 15, 2015.
Bruce E. Cain,
Acting Directorate Manager, Rotorcraft Directorate, Aircraft Certification Service.

[FR Doc. 2015-18049 Filed 7-23-15; 8:45 am]

BILLING CODE 4910-13-P